DEPARTMENT OF ENERGY

Environmental Management Site-Specific Advisory Board Chairs

AGENCY: Office of Environmental Management, Department of Energy.

ACTION: Notice of open virtual meeting.

SUMMARY: This notice announces an online virtual meeting of the Environmental Management Site-Specific Advisory Board (EM SSAB) Chairs. The Federal Advisory Committee Act requires that public notice of this conference call be announced in the Federal Register.

DATES: Monday, October 19, 2020, 12:00 p.m.-3:00 p.m. EDT, Tuesday, October 20, 2020, 12:00 p.m.-3:00 p.m. EDT.

ADDRESSES: This meeting will be held virtually via WebEx. To attend, please contact Alyssa Harris by email, Alyssa.Harris@em.doe.gov, no later than 5:00 p.m. EDT on Monday, October 12, 2020.

To Submit Public Comment: Public comments will be accepted via email prior to and after the meeting. Comments received no later than 5:00 p.m. EDT on Monday, October 12, 2020, will be read aloud during the virtual meeting. Comments will also be accepted after the meeting by no later than 5:00 p.m. EDT on Friday, October 23, 2020. Please send comments to Alyssa Harris at Alyssa.Harris@em.doe.gov.

FOR FURTHER INFORMATION CONTACT: Alyssa Harris, EM SSAB Federal Coordinator, U.S. Department of Energy, 1000 Independence Avenue SW, Washington, DC 20585. Phone (202) 430-9624 or Email: Alyssa.Harris@em.doe.gov.

SUPPLEMENTARY INFORMATION: Purpose of the Board: The purpose of the Board is to make recommendations to DOE-EM and site management in the areas of environmental restoration, waste management, and related activities.

Tentative Agenda Topics

Monday, October 19, 2020

• EM Headquarters Update and Site Statuses

• EM SSAB Chairs' Round Robin

• Reading of Public Comment

• EM Budget Presentation

Tuesday, October 20, 2020

• Waste Management and Regulatory Framework Presentation

• Reading of Public Comment

• Discussion of New Charges and Path Forward for the EM SSAB

Public Participation: The online virtual meeting is open to the public. Written statements may be filed with the Board either before or after the meeting by sending them to Alyssa Harris at the aforementioned email address. The Designated Federal Officer is empowered to conduct the conference call in a fashion that will facilitate the orderly conduct of business. Individuals wishing to make public comments should email them as directed above.

Minutes: Minutes will be available by writing or calling Alyssa Harris at the address or phone number listed above. Minutes will also be available at the following website: https://energy.gov/em/listings/chairs-meetings.

Signed in Washington, DC on September 25, 2020.
LaTanya Butler,
Deputy Committee Management Officer.

[FR Doc. 2020-21588 Filed 9-29-20; 8:45 am]

BILLING CODE 6450-01-P